SMALL BUSINESS ADMINISTRATION

[Declaration of Disaster #P043; Amdt. #1]

State of South Dakota

In accordance with a notice received from the Department of Homeland Security—Federal Emergency Management Agency, effective July 28, 2004, the above numbered declaration is hereby amended to include Yankton County in the State of South Dakota as a disaster area due to damages caused by severe storms and flooding occurring on May 28, 2004, and continuing.

All other information remains the same, i.e., the deadline for filing applications for physical damage is September 20, 2004.

(Catalog of Federal Domestic Assistance Program Nos. 59008).

Dated: August 3, 2004.
Herbert L. Mitchell,
Associate Administrator for Disaster Assistance.

[FR Doc. 04-18094 Filed 8-6-04; 8:45 am]

BILLING CODE 8025-01-P